DEPARTMENT OF ENERGY

Federal Energy Regulatory Commission

[Docket No. ES02-52-000]

MDU Resources Group, Inc.; Notice of Application

October 4, 2002.

Take notice that on September 24, 2002, MDU Resources Group, Inc. (MDU Resources) submitted an application pursuant to section 204 of the Federal Power Act seeking authorization to issue a combination of securities not to exceed in the aggregate of $750 million and not to exceed the following amounts:

(1) $750,000,000 of common stock;

(2) $112,500,000 worth of preferred stock;

(3) $262,000,000 worth of new mortgage bonds, senior notes, debentures, subordinated and unsubordinated debentures, or other evidences of indebtedness and/or guarantees from time to time;

(4) $262,500,000 worth or other evidences of indebtedness of stock purchase contracts, stock purchase units, and/or warrants; and

(5) $262,500,000 worth of other securities, including, without limitation, hybrid securities and any related guarantees.

MDU Resources seeks a waiver of the Commission's competitive bidding and negotiated placement requirements at 18 CFR 34.2.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Comment Date: October 25, 2002.

Linwood A. Watson, Jr.,
Deputy Secretary.

[FR Doc. 02-26107 Filed 10-11-02; 8:45 am]

BILLING CODE 6717-01-P